FEDERAL COMMUNICATIONS COMMISSION

47 CFR Part 25

[DA 00-222; Docket No. 99-81; RM-9328]

Authorization of 2 GHz Mobile Satellite Service Systems

AGENCY: Federal Communications Commission.

ACTION: Proposed Rules: Supplemental Comments.

SUMMARY: By this Public Notice, the Chief of the Federal Communications Commission's International Bureau seeks supplemental comment on authorizing 2 GHz Mobile Satellite Service (MSS) systems using a processing alternative that combines elements of the traditional band arrangement with the negotiated entry approach. This alternative is intended to provide incentives for MSS operators to expedite implementation of their systems, while maximizing their flexibility during the incumbent relocation process.

DATES: Supplemental Comments on or before February 17, 2000.

ADDRESSES: Send Supplemental Comments to the Commission's Secretary, Magalie Roman Salas, Office of the Secretary, Federal Communications Commission, 445 12th Street, SW, TW-A325, Washington, DC 20554. See Supplementary Information for information about electronic filing.

FOR FURTHER INFORMATION CONTACT: Chris Murphy, Satellite Policy Branch, (202) 418-2373, or Howard Griboff, Satellite Policy Branch, at (202) 418-0657.

SUPPLEMENTARY INFORMATION: In the 2 GHz MSS Notice, the Commission sought comment on four spectrum assignment methodologies that could accommodate all nine Mobile Satellite Service (MSS) systems proposed in the 1990-2025/2165-2200 MHz frequency bands (2 GHz MSS).¹ The first is a “flexible band arrangement,” in which the Commission would grant each proposed system 2.5 MHz in uplink and downlink spectrum, group systems in segments based on the particular technology used, and provide expansion spectrum between the assigned segments for additional system requirements.² In the second option, called the “negotiated entry” approach, the Commission would license all proposed systems across the entire band and allow the operators themselves to coordinate their operations, with the Commission being available to resolve disputes.³ In the third proposal, the “traditional band arrangement,” the Commission would divide the spectrum equally and assign or designate the spectrum blocks to the proposed systems using system design as a function of spectrum allocation (i.e., a CDMA-NGSO block, a TDMA-GSO block, etc.).⁴ The fourth option proposed to auction licenses in the event that none of the preceding three options is viable.⁵ The Commission also reserved the option of adopting a hybrid solution arising from the options described.⁶

¹ The Establishment of Policies and Service Rules for the Mobile Satellite System in the 2 GHz Band, IB Docket No. 99-81, Notice of Proposed Rulemaking, 14 FCC Rcd 4843, 4857-64 paras. 26-48 (1999); 64 FR 16880 (April 7, 1999) (2 GHz MSS Notice).

² Id. at 4858-61 paras. 31-39.

³ Id. at 4861-62 paras. 40-43.

⁴ Id. at 4863 paras. 44-45.

⁵ Id. at 4863-64 paras. 46-48.

⁶ Id. at 4858 paras. 30.

The Commission received significant comment on the four proposed methodologies. By this Public Notice, the International Bureau seeks to augment the record on certain issues not directly addressed by commenters. Specifically, we seek additional comment on a hybrid processing alternative, combining elements of the traditional band arrangement with the negotiated entry approach. This new alternative is intended to provide incentives for MSS operators to expedite implementation of their systems, while maximizing their flexibility during the incumbent relocation process.⁷

⁷ See id. at 4892 paras. 112-113 (seeking comment on how incumbent relocation may affect the ultimate choice of 2 GHz MSS spectrum assignment methods).

In this alternative methodology, the Commission would subdivide the 2 GHz MSS uplink and downlink bands into distinct segments of equal bandwidth, with each segment representing an operator's “home” spectrum assignment in the band. Rather than assigning each segment according to system design, as proposed in the traditional band arrangement, each operator would be permitted to select from the then-available spectrum segments by submitting a request for its desired assignment once the first satellite in its system reaches its intended orbit. This mechanism is designed to provide market-based incentives for MSS operators to implement service quickly, since early entry may determine whether a system can choose its preferred “home” segment.

In addition to authorizing each system to a “home” spectrum segment, the Commission would authorize each satellite operator to provide service anywhere in the 2 GHz MSS spectrum, subject to inter-system coordination. In this regard, this part of the proposal is similar to the negotiated entry approach proposed in the 2 GHz MSS Notice. The primary differences, however, are that under the new approach, operators would be permitted to use spectrum outside their “home” assignment only on a secondary basis with respect to other MSS operators, and an operator's total spectrum use would be limited to the same amount of spectrum that is authorized in the “home” segment. In the event that a later entrant selects spectrum for its “home” assignment that is being used by an earlier entrant, the earlier entrant would be required to move to other available spectrum or return to its “home” spectrum assignment. This part of the proposal is designed to allow systems to begin providing service in any available frequencies of the 2 GHz MSS band during the incumbent relocation process, and facilitate inter-system coordination in the band when later systems implement.

We seek comment on these modifications to the traditional band arrangement and negotiated entry approach, and on implementing this hybrid spectrum assignment methodology. We also seek comment on whether these modifications would serve the public interest by providing additional incentives for MSS operators to expedite implementation of their systems.

Procedural Matters

Pursuant to §§ 1.415 and 1.419 of the Commission's rules, 47 CFR 1.415, 1.419, interested parties may file Supplemental Comments limited to the issues addressed in this Public Notice no later than February 17, 2000. In view of the pendency of this proceeding, we expect to adhere to the schedule set forth in this Public Notice and do not contemplate granting extensions of time. Supplemental Comments should reference IB Docket No. 99-81 and should include the DA number shown on this Public Notice. Supplemental Comments may be filed using the Commission's Electronic Comment Filing System (ECFS).⁸ Supplemental Comments filed through the ECFS can be sent as an electronic file via Internet to http://www.fcc.gov/e-file/ecfs.html. In completing the transmittal screen, parties responding should include their full name, mailing address, and the applicable docket number, IB Docket No. 99-81.

⁸ See Electronic Filing of Documents in Rulemaking Proceeding, 63 FR 24121 (May 1, 1998).

In the 2 GHz MSS Notice, the Commission presented an Initial Regulatory Flexibility Analysis,⁹ as required by the Regulatory Flexibility Act (RFA).¹⁰ If commenters believe that the proposals discussed in this Public Notice require additional RFA analysis, they should include a discussion of these issues in their Supplemental Comments.

⁹ 2 GHz MSS Notice, 14 FCC Rcd at 4895-97, Section V.B.

¹⁰ See 5 U.S.C. 603. The RFA, see 5 U.S.C. 601 et. seq., has been amended by the Contract With America Advancement Act of 1996, Public Law No. 104-121, 110 Stat. 847 (1996) (CWAAA). Title II of the CWAAA is the Small Business Regulatory Enforcement Fairness Act of 1996 (SBREFA).

For ex parte purposes, this proceeding continues to be a “permit-but-disclose” proceeding, in accordance with § 1.1200(a) of the Commission's rules, and is subject to the requirements set forth in § 1.1206(b) of the Commission's rules.

For further information, please contact: Chris Murphy, Satellite Policy Branch, (202) 418-2373, or Howard Griboff, Satellite Policy Branch, at (202) 418-0657.

List of Subjects in 47 CFR Part 25

Satellites.

Federal Communications Commission.
Anna M. Gomez,
Deputy Chief, International Bureau.

[FR Doc. 00-3332 Filed 2-10-00; 8:45 am]

BILLING CODE 6712-01-P